DEPARTMENT OF TRANSPORTATION

Federal Aviation Administration

14 CFR Part 97

[Docket No.: FAA-2017-0879]

RIN 2120-AA65

Criteria and Process for the Cancellation of Standard Instrument Approach Procedures as Part of the National Procedures Assessment (NPA)

AGENCY: Federal Aviation Administration (FAA), Department of Transportation (DOT).

ACTION: Proposed policy and request for comment.

SUMMARY: As new technology facilitates the introduction of area navigation (RNAV) instrument approach procedures over the past decade, the number of procedures available in the National Airspace System has nearly doubled. The complexity and cost to the Federal Aviation Administration (FAA) of maintaining the instrument flight procedures inventory while expanding the new RNAV capability is not sustainable. The FAA is considering the cancellation of certain circling procedures (to include circling-only instrument approach procedures (IAPs) and circling minima charted on straight-in IAPs). The FAA proposes specific criteria to guide the identification and selection of appropriate circling procedures that can be considered for cancellation. The circling procedures associated with this cancellation initiative would be selected from the criteria outlined below. This document is not a part of the FAA's VOR minimum operating network (MON) initiative.

DATES: Comments must be received on or before November 6, 2017.

ADDRESSES: Send comments identified by docket number FAA-2017-0879 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL- 14 FDMS), which can be reviewed at www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: For technical questions concerning this action, contact Lonnie Everhart, Aeronautical Information Services AJV-5, Federal Aviation Administration, Air Traffic Organization, 6500 S. MacArthur Blvd, Oklahoma City, OK 73169; Telephone (405) 954-4576; Email AMC-ATO-IFP-Cancellations@faa.gov.

SUPPLEMENTARY INFORMATION:

Authority for This Rulemaking

Under 49 U.S.C. 40103(a), the Administrator has broad authority to regulate the safe and efficient use of the navigable airspace. The Administrator is also authorized to issue air traffic rules and regulations to govern the flight, navigation, protection, and identification of aircraft for the protections of persons and property on the ground and for the efficient use of the navigable airspace. 49 U.S.C. 40103(b). Under Section 44701(a)(5), the Administrator promotes safe flight of civil aircraft in air commerce by prescribing regulations and minimum standards for other practices, methods, and procedures necessary for safety in air commerce and national security. This action is within the scope of that authority.

IAPs are promulgated by rulemaking procedures and are incorporated by reference pursuant to 5 U.S.C. 552(a) and 1 CFR part 51 into Title 14 of the Code of Federal Regulations; Part 97 (14 CFR part 97), Subpart C—TERPS Procedures.

Background

The National Airspace System (NAS) is currently in transition to a “NextGen NAS”. During this transition, the FAA is managing the technology and procedures to support both the Legacy NAS as well as the NextGen NAS. Managing two versions of the NAS requires excess manpower, infrastructure, and information management which is costly and unsupportable in the longterm. To mitigate these costs, the FAA has a number of efforts underway to effectively transition from the legacy to the NextGen NAS. One area of focus for this transition is instrument flight procedures (IFPs). The FAA seeks to ensure an effective transition from ground-based IFPs to greater availability and use of satellite-based IFPs while maintaining NAS safety.

In early 2015, the FAA requested the RTCA's Tactical Operations Committee (TOC) with providing feedback and recommendations on criteria and processes for cancelling instrument flight procedures. Among the many recommendations provided by the TOC were criteria on how to identify circling procedures that would qualify as candidates for cancellation. As of the beginning of 2017, there are approximately 12,000 IAPs in publication, and there were nearly 10,600 circling lines of minima. Circling procedures account for approximately one-third of all lines of minima in the NAS.

In its continued effort to right-size the NAS through optimization and elimination of redundant and unnecessary IAPs, the FAA proposes the following criteria to guide the identification and selection of appropriate circling procedures to be considered for cancellation.

It should be noted that National Procedures Assessment (NPA) Instrument Flight Procedure (IFP) cancellation activities and associated criteria do not supersede similar activities being performed under the FAA's VOR MON Program. See 81 FR 48694 (July 26, 2016). However, NPA IFP cancellation activities have been coordinated with the FAA office responsible for the VOR MON implementation program, and its input has been thoroughly considered.

Proposed Policy

All circling procedures will continue to be reviewed through the established IAP periodic review process.¹ As part of that review process, the FAA is proposing that each circling procedure would be evaluated against the following questions:

¹ Section 2-8 of FAA Order 8260.19 (Flight Procedures and Airspace) sets forth the minimum frequency of review of instrument procedures.

—Is this the only IAP at the airport?

—Is this procedure a designated MON airport procedure?

—If multiple IAPs serve a single runway end, is this the lowest circling minima for that runway? Note: If the RNAV circling minima is not the lowest, but is within 50' of the lowest, the FAA would give the RNAV preference.

—Would cancellation result in removal of circling minima from all conventional NAVAID procedures at an airport? Note: If circling minima exists for multiple Conventional NAVAID procedures, preference would be to retain ILS circling minima.

—Would cancellation result in all circling minima being removed from all airports within 20 NMs?

—Will removal eliminate lowest landing minima to an individual runway?

The following questions are applicable only to circling-only procedures:

—Does this circling-only procedure exist because of high terrain or an obstacle that makes a straight-in procedure unfeasible or which would result in the straight-in minimums being higher than the circling minima?

—Is this circling-only procedure (1) at an airport where not all runway ends have a straight-in IAP, and (2) does it have a Final Approach Course not aligned within 45 degrees of a runway which has a straight-in IAP?

Further consideration for cancellation under this policy would be terminated if any of the aforementioned questions are answered in the affirmative. If all questions are answered in the negative, the procedure would be processed as described in the following paragraph.

When a candidate has been identified, Aeronautical Information Services would send a notification of procedure cancellation memorandum and completed checklist to the appropriate Regional Service Area, Operations Support Group.² The Regional Service Area, Operations Support Group would follow the same notification process used for standard IFP requests.³ Consistent with FAA procedures outlined in the procedure cancellation memorandum, comments regarding the aforementioned circling procedure would need to be submitted within 30 days of the timestamp on the communication media through which it was delivered. Comments would be directed to the Regional Service Area, Operations Support Group for dissemination to Aeronautical Information Services. Comments would be adjudicated by Aeronautical Information Services within 30 days of the timestamp on the communication media through which it was received. A final decision would be forwarded to Regional Service Area, Operations Support Group to disseminate to commenter(s). The cancellation of the part 97 instrument procedure will be published in the Federal Register.

² The FAA has placed sample copies of the memorandum and checklist into the docket for this notice.

³ FAA Order 8260.43 (Flight Procedures Management Program) and FAA Order 8260.26 (Establishing Submission Cutoff Dates for Civil Instrument Procedures) contain additional information on this process. These orders are available on the FAA Web site.

Invitation for Comments

The FAA invites interested parties to submit written comments, data, or views. The agency also invites comments relating to the economic, environmental, energy, or federalism impacts that might result from implementation of the proposed policy. Comments should explain the reason for modifying or not implementing this proposed policy. To ensure the docket does not contain duplicate comments, commenters should send only one copy of written comments or, if comments are filed electronically, commenters should submit only one time.

The FAA will consider all comments it receives on or before the closing date for comments before acting on proposed policy. The FAA will consider comments submitted after the comment period has closed if it is possible to do so without incurring expense or delay. The agency may change this proposal in light of the comments it receives.

Issued in Washington, DC, on September 22, 2017.
Steven L. Szukala,
Manager, Instrument Flight Procedure Group, Aeronautical Information Services.

[FR Doc. 2017-21626 Filed 10-5-17; 8:45 am]

BILLING CODE 4910-13-P